ENVIRONMENTAL PROTECTION AGENCY

40 CFR Part 52

[LA-49-1-7400; FRL-7240-1]

Approval and Promulgation of Air Quality State Implementation Plans (SIP); Louisiana: Motor Vehicle Inspection and Maintenance (I/M) Program

AGENCY: Environmental Protection Agency (EPA).

ACTION: Proposed approval.

SUMMARY: The EPA is proposing approval of a Vehicle Inspection and Maintenance (I/M) Program adopted by the State of Louisiana as part of the Louisiana SIP. This proposed action is taken under section 110 of the Clean Air Act as amended in 1990 (the Act).

DATES: Comments must be received on or before August 1, 2002.

ADDRESSES: Written comments should be addressed to Mr. Thomas H. Diggs, Chief, Air Planning Section, at the EPA Region 6 Office listed below. Copies of the documents relevant to this action are available for public inspection during normal business hours at the following locations. Persons interested in examining these documents should make an appointment with the appropriate office at least 24 hours before the visiting day.

Environmental Protection Agency, Region 6, Air Planning Section (6PD-L), 1445 Ross Avenue, Suite 700, Dallas, Texas 75202-2733

Louisiana Department of Environmental Quality, Air Quality Compliance Division, 7290 Bluebonnet, 2nd Floor, Baton Rouge, Louisiana

Louisiana Department of Environmental Quality Capital Regional Office, 11720 Airline Highway, Baton Rouge, Louisiana

FOR FURTHER INFORMATION CONTACT: Ms. Sandra G. Rennie, Air Planning Section (6PD-L), EPA Region 6, 1445 Ross Avenue, Dallas, Texas 75202-2733, telephone (214) 665-7367.

SUPPLEMENTARY INFORMATION:

What Action Is EPA Taking Today?

We, the EPA, are proposing approval of Louisiana's I/M program.

What Are the Clean Air Act Requirements?

An I/M program is required in the Baton Rouge area because of its classification as a nonattainment area for ozone and the population exceeds 200,000. The SIP credits are not taken for the I/M plan in the 15% Rate-of-Progress (ROP) Plan or the 9% ROP plan. However, SIP credits are taken for the I/M plan in the pending attainment demonstration. Additional information on these actions can be found in EPA's proposed approval of the Reasonable-Further-Progress Plan for the 1996-1999 Period in 63 FR 44192 dated August 18, 1998.

What Events Led Up to This Action?

EPA disapproved the Louisiana 1996 I/M SIP revision effective February 13, 1998. Discussion of background leading up to that final disapproval can be found in the rulemakings on that SIP, 62 FR 31388 (June 9, 1997), 62 FR 41002 (July 31, 1997), and 62 FR 61633 (November 19, 1997). An 18-month sanction clock was started under section 179 of the Act on the effective date of the final disapproval. In July 1998, Louisiana sought greater flexibility from EPA for designing an I/M program tailored to meet the State's air quality needs. We parallel processed a proposed conditional approval, which was published on December 30, 1998, at 63 FR 71807.

Because the proposal did not stop the sanction clock due to expire on August 13, 1999, on August 10, 1999, EPA made an interim final determination that the State had more likely than not cured the deficiencies prompting the original disapproval (64 FR 45454, August 20, 1999). The reader is referred to this notice for details of EPA's basis for this determination. This action deferred the future application of the offset sanction and the highway sanction.

Why Is EPA Taking This Action?

We are taking this action today because the State submitted a revised I/M SIP on December 28, 2001, as part of the Baton Rouge SIP. EPA has concluded that the State's submittal represents an acceptable approach to the I/M requirements and meets the requirements for approval.

What Did the State Submit for an I/M Program?

The State adopted I/M SIP revision was submitted on December 28, 2001. The SIP contains a SIP narrative, I/M Rules, and several appendices including the Department of Public Safety (DPS) Manual addressing the requirements of the I/M program. The submittal is intended to fulfill the requirements of the Act for the ozone nonattainment area of Louisiana that is required to implement an I/M program.

We reviewed the State's submittal against the requirements contained in the Act and Federal I/M rules (40 CFR part 51, subpart S). An analysis of the Federal requirements and how the State intends to fulfill the requirements of the Act and the Federal I/M rules follows.

Section 51.350 Applicability

The SIP needs to describe the applicable areas in detail and, consistent with § 51.372 of the Federal I/M rule, shall include the legal authority or rules necessary to establish program boundaries.

The Louisiana regulations specify that an I/M program will be implemented in the Baton Rouge ozone nonattainment area. The low enhanced I/M program will be implemented in the urbanized area that includes East Baton Rouge Parish. In addition, the program will cover Ascension, Iberville, Livingston, and West Baton Rouge parishes in the nonattainment area. The authority to establish program boundaries in this area is found in LA R.S. 32:1304(3).

Section 51.351-2 Low Enhanced I/M Performance Standard

The I/M program provided for in the SIP must be designed to meet a performance standard, either basic or enhanced as applicable. The performance standard sets an emission reduction target that must be met by a program in order for the SIP to be approvable. The SIP must also provide that the program will meet the performance standard in actual operation, with provisions for appropriate adjustments if the standard is not met. Equivalency of emission levels needed to achieve the I/M program design in the SIP to those of the model program described in this section must be demonstrated using the most current version of EPA's mobile source emission model, or an alternative approved by the Administrator.

The State submitted a modeling demonstration using the EPA computer model MOBILE5b and localized parameters showing that the low enhanced performance standard can be met in the Baton Rouge area with the program proposed by the State.

The low enhanced performance standard is established in 40 CFR 51.351(g). That section provides that states may select the low enhanced performance standard if they have an approved SIP for Reasonable Further Progress (RFP) in 1996, commonly known as a 15% Rate-of-Progress (ROP) Plan, do not have any other disapproved ROP plans, and are not needing the high enhanced program to demonstrate attainment. Louisiana's 15% Plan for Baton Rouge was approved on October 22, 1996 (61 FR 54737). There are no disapproved ROP plans for Baton Rouge and the area does not need a high enhanced program to demonstrate timely attainment. In order to meet the low enhanced standard, the State needed to show a reduction of 11 percent VOCs with the I/M program. Projections of oxides of nitrogen (NOX) emissions were not included at the time EPA approved the 15% plan because EPA had approved a NOX waiver for Baton Rouge on January 16, 1996, which was published on January 26, 1996 at 61 FR 2438.

In a revised attainment demonstration SIP analysis now pending before EPA for action, it was determined that NOX reductions from I/M would now be necessary. A recission of the NOX waiver was proposed for approval by the Administrator on May 1, 2002, and published on May 7, 2002. Credits from I/M NOX reductions are part of the attainment demonstration currently under EPA review.

Light and heavy duty vehicles up to 10,000 lb. from 1980 and newer will be required to participate in the I/M program. No covered model years are exempted. The State is modeling with a test and repair program which assumes 75 percent credit for network credits. This amount of credit was chosen by the State to complete the modeling necessary to demonstrate compliance with the performance standard. Modeling with MOBILE5b, the State showed that the proposed program with 75 percent network credits is projected to meet the performance standard of 2.18 grams per mile (gpm) of VOCs and 2.19 gpm of NOX. Compliance with the performance in operation is discussed below in the following section on program evaluation.

The State meets the performance standard requirements of the Federal I/M rule for approval.

Section 51.353 Network Type and Program Evaluation

The SIP needs to include a description of the network to be employed, and the required legal authority. Also, for enhanced areas, the SIP needs to include a description of the evaluation schedule and protocol, the sampling methodology, the data collection and analysis system, the resources and personnel for evaluation, and related details of the evaluation program, and the legal authority enabling the evaluation program.

The State is implementing a decentralized test and repair program. The program includes an on-going evaluation process with results reported to EPA on a biennial basis, in July, starting two years after the initial start of mandatory testing. Surveys assessing effectiveness, measured rates of tampering, and results of covert audits will be reported. In addition, the SIP commits to meet the ongoing program evaluation using testing of sound methodology of at least 0.1 percent of subject vehicles and reporting the results of such evaluation on a biennial basis. Resources and personnel for the program evaluation are described in the SIP. Legal authority, which is contained in R.S. 32:1305-1306, authorizes the Department of Public Safety (DPS) to implement the program and conduct the program evaluation.

For the purposes of this SIP revision, the State must demonstrate and have EPA approve after public comment that the network effectiveness credit claimed in that attainment demonstration for the I/M program is in fact being met, or adjust the credit accordingly in the attainment demonstration to reflect the actual effectiveness of the test network. In December 2001, the State submitted a program network effectiveness demonstration based on partial program implementation. The State also submitted a supplement to the 2001 effectiveness demonstration on May 6, 2002, which focuses on the future growth and benefits of the State's I/M program after full implementation employing the newly added OBD requirements.

In the SIP, the program effectiveness claim was 75 percent. To demonstrate program effectiveness, the State utilized criteria set forth in guidance ¹ for performing I/M program effectiveness demonstrations under the National Highway System Designation Act of 1995. Although Louisiana did not start up their program under the NHSDA, the Federal I/M rules also require an effectiveness demonstration.

¹ 1996 draft guidance prepared by a work group (the ECOS Group) made up of EPA, the Environmental Council of States, the State and Territorial Air Pollution Program Administrators, and the Association of Local Air Pollution Control Officers.

In the analysis, the State is able to compare the performance of the Test and Repair (T&R) stations with Test Only stations by dividing the network into two subsets. The T&R subset is 79% of the stations, and the Test Only/Surrogate for Test Only (TO/SFTO) subset is 21% of the stations. The network had a total of 192 stations operating during the period of data collection.

Criteria that were compared between T&R and TO/SFTO stations are:

1. Unannounced audits of I/M equipment;

2. Success rates for first retest after repairs;

3. Overt site audits;

4. Enforcement actions taken; and

5. Training and certification of inspectors.

Using these five criteria on the partially implemented program, the State was able to show that the T&R stations were at least 75 percent as effective as TO/SFTO stations in the network. In fact, T&R stations were at least 95 percent as effective as TO/SFTO. With four out of the five criteria, the T&R stations were actually demonstrated to be more effective than the TO/SFTO stations.

Program enhancements resulting from adding OBD testing improve the program effectiveness. OBD testing will include realtime on-line data collection that the partial program did not have. The benefits from this enhancement are to collect more accurate I/M data in a timely manner, resulting in an even more effective I/M program.

The State meets the network type and program evaluation requirements of the Federal I/M rule for approval.

Section 51.354 Adequate Tools and Resources

The SIP needs to include a description of the resources that will be used for program operation and discuss how the performance standard will be met which includes (1) a detailed budget plan which describes the source of funds for personnel, program administration, program enforcement, purchase of necessary equipment (such as vehicles for undercover audits), and any other requirements discussed throughout, for the period prior to the next biennial self-evaluation required in the Federal I/M rule, and (2) a description of personnel resources. The plan shall include the number of personnel dedicated to overt and covert auditing, data analysis, program administration, enforcement, and other necessary functions and the training attendant to each function.

Louisiana R.S. 32:1306.C(2) authorizes the program to charge an emission inspection fee and a safety/anti-tampering inspection fee to support program operations. The SIP also describes the budget, staffing support, and equipment needed to implement the program in the narrative and in detailed budgets for LDEQ and the DPS in Appendix E of the SIP.

The State submittal meets the adequate tools and resources requirements of the Federal I/M rule for approval. The State committed to implementing on-board diagnostic testing on all 1996 and newer vehicles beginning January 1, 2002. Acting as expeditiously as possible, the State intends to begin on-board diagnostic testing in July 2002.

Section 51.355 Test Frequency and Convenience

The SIP needs to describe the test schedule in detail, including the test year selection scheme if testing is other than annual. Also, the SIP needs to include the legal authority necessary to implement and enforce the test frequency requirement. In addition, in enhanced I/M programs, test systems shall be designed in such a way as to provide convenient service to motorists who are required to get their vehicles tested. The SIP needs to demonstrate that the network of stations providing test services is sufficient to insure short waiting times to get a test and short driving distances.

The revised Louisiana I/M SIP commits to testing all designated vehicles 1980 and newer annually. The program is decentralized and stations will adhere to regular inspection hours. The network of stations will consist of familiar locations where motorists regularly receive the currently required annual safety/antitampering inspections and other vehicle services. Louisiana R.S. 1301-1310 provides the legal authority for implementation and enforcement of the test frequency. In addition, at least 0.5 percent of the vehicle population will be subject to on-road testing.

The State submittal meets the test frequency and convenience requirements of the Federal I/M regulations for approval.

Section 51.356 Vehicle Coverage

The SIP needs to include a detailed description of the number and types of vehicles to be covered by the program, and a plan for how those vehicles are to be identified. Also, the SIP needs to include a description of any special exemptions which will be granted by the program, and an estimate of the percentage and number of subject vehicles which will be impacted. Such exemptions need to be accounted for in the emission reduction analysis. In addition, the SIP needs to include the legal authority or rule necessary to implement and enforce the vehicle coverage requirement.

The revised Louisiana I/M SIP includes coverage of light and heavy-duty cars and trucks up to 10,000 lb. GVWR registered or required to be registered in the I/M program area, including fleets. Subject vehicles will be identified through the Department of Motor Vehicle database. No covered vehicles are exempt. Approximately 400,000 vehicles will be subject to inspection. Legal authority for vehicle coverage is contained in LA R.S. 32:1304.A(2), and LA R.S. 47:501 and 503.

The state revised the Louisiana DPS Manual to increase the weight of light- and heavy-duty vehicles included in their program in order to meet the performance standard. The weight of light- and heavy-duty vehicles covered by the program in the nonattainment area was changed from 8,500 lb. to 10,000 lb. GVWR. The updated DPS Manual for 2000 reflects these changes and is included in the SIP in Appendix D.

The State submittal meets the requirements for vehicle coverage of the Federal I/M regulation.

Section 51.357 Test Procedures and Standards

The SIP needs to include a description of each test procedure used. The SIP also needs to include the rule, ordinance or law describing and establishing the test procedures.

Vehicles tested in the program shall be subject to an antitampering check, a gas cap pressure test, and On-Board Diagnostic Testing (OBDII). OBD testing will be performed on all 1996 and newer vehicles. Pressure testing procedures shall meet requirements in EPA IM240 and Evaporative Test Guidance (1998 Revised Technical Guidance). OBD testing will be according to 40 CFR 85, subpart W, § 85.2207. Authority to conduct tests on vehicles is established in LA R.S. 1304.

The State submitted a revision to the Louisiana DPS Manual that includes the gas cap pressure test and the final DPS rule (Appendix K) that also requires OBD II testing effective January 1, 2002, to meet the test procedures requirements of the Federal I/M regulations for approval. Acting as expeditiously as possible, the State intends to begin on-board diagnostic testing in July 2002.

The State submittal meets the requirements for test procedures and standards of the Federal I/M regulation.

Section 51.358 Test Equipment

The SIP needs to include written technical specifications for all test equipment used in the program and needs to address each of the requirements contained in 40 CFR 51.358 of the Federal I/M rule. The specifications need to describe the emission analysis process, the necessary test equipment, the required features, and written acceptance testing criteria and procedures.

The revised Louisiana I/M SIP states that gas cap integrity test equipment specifications will be consistent with that described in the IM240 and Evap Technical Guidance (August 1998). In addition, the OBD equipment will meet the specifications in Performing Onboard Diagnostics System Checks as Part of a Vehicle Inspection and Maintenance Program (June 2001, EPA420-R-01-015). Data on OBD testing will be collected on a real-time basis via wireless/modem that communicates with a central database in accordance with 40 CFR 51.258.

The State submittal meets the requirements for test equipment of the Federal I/M regulation.

Section 51.359 Quality Control

The SIP needs to include a description of quality control and record keeping procedures. The SIP needs to include the procedure manual, rule, ordinance or law describing and establishing the quality control procedures and requirements.

The revised Louisiana I/M SIP states that the quality control procedures will be conducted in accordance with 40 CFR 51.359. These requirements under LA R.S. 32:1305 and 1306 will help ensure that equipment calibrations are properly performed and recorded while maintaining compliance document security. Equipment manufacturers' quality control procedures, periodic maintenance schedules, and calibration procedures will be performed to ensure proper operation of the test equipment.

The State submittal meets the requirements for quality control of the Federal I/M regulations.

Section 51.360 Waivers and Compliance Via Diagnostic Inspection

The SIP needs to include a maximum waiver rate expressed as a percentage of initially failed vehicles. This waiver rate needs to be used for estimating emission reduction benefits in the modeling analysis. Also, the State needs to take corrective action if the waiver rate exceeds that committed to in the SIP, or revise the SIP and the emission reductions claimed accordingly. In addition, the SIP needs to describe the waiver criteria and procedures, including cost limits, quality assurance methods and measures, and administration. Lastly, the SIP needs to include the necessary legal authority, ordinance, or rules to issue waivers, set and adjust cost limits as required, and carry out any other functions necessary to administer the waiver system, including enforcement of the waiver provisions.

The State does not have a minimum waiver amount. The revised Louisiana I/M program includes a waiver rate of 0 percent of initially failed vehicles. This waiver rate is used in the modeling demonstration.

This means the State does not intend to allow any waiver from the program. The State need not provide for waiver program administration or future corrective action because it does not have a waiver program at all. Therefore, the State submittal meets the waivers and compliance via diagnostic inspection requirement of the Federal I/M regulation for approval.

Section 51.361 Motorist Compliance Enforcement

The SIP needs to provide information concerning the enforcement process, including (1) A description of the existing pre-1990 compliance mechanism if it is to be used in the future and the demonstration that it is more effective than registration-denial enforcement; (2) an identification of the agencies responsible for performing each of the applicable activities in this section; (3) a description of and accounting for all classes of exempt vehicles; and (4) a description of the plan for testing fleet vehicles, rental car fleets, leased vehicles, and any other subject vehicles. Also, the SIP needs to include a determination of the current compliance rate based on a study of the system that includes an estimate of compliance losses due to loopholes, counterfeiting, and unregistered vehicles. Estimates of the effect of closing such loopholes and otherwise improving the enforcement mechanism shall be supported with detailed analyses. In addition, the SIP needs to include the legal authority to implement and enforce the program.

The State has chosen to enforce the I/M program with sticker-based enforcement. The current pre-1990 safety/antitampering and I/M program relies on sticker-based enforcement. Penalties for missing or non-issued stickers include a fine, as well as possible criminal charges, or revocation of the inspector from the program.

The motorist compliance enforcement program is handled cooperatively by the DPS, local law enforcement agencies, and the LDEQ. The State submitted an acceptable demonstration of sticker-based enforcement effectiveness on March 13, 2001, to show this method of enforcement is more effective than registration denial, as required by the Act. The statute also provides for enforcement by registration suspension.

There are no classes of on-road exempt vehicles. Fleet vehicles are allowed to conduct self-testing provided that they meet the required equipment standards, are certified by the administrative authority, and tests are performed in accordance with established inspection procedures. Motorists operating vehicles in the I/M areas with an expired or invalid registration are subject to penalties and/or citations by local and state law enforcement officials, or registration suspension. The SIP anticipates a compliance rate of 96 percent through cooperation with the DPS. The legal authority to implement and enforce the program is included in the Louisiana statutes cited in the SIP.

The State submittal meets the requirements for motorist compliance enforcement of the Federal I/M regulations for approval.

Section 51.362 Motorist Compliance Enforcement Program Oversight

The SIP needs to include a description of enforcement program oversight and information management activities.

The Louisiana I/M SIP provides for regular auditing of its enforcement efforts and for following effective management practices, including adjustments to improve the program when necessary. The program oversight and information management activities listed in the SIP narrative include procedures for I/M document handling and processing, audit procedures, procedures for dealing with motorists and inspection facilities suspected of violating program rules.

The State submittal meets the motorist compliance enforcement program oversight requirements of the I/M regulations for approval.

Section 51.363 Quality Assurance

The SIP needs to include a description of the quality assurance program, and written procedures manuals covering both overt and covert performance audits, record audits, and equipment audits. This requirement does not include materials or discussion of details of enforcement strategies that would ultimately hamper the enforcement process.

The revised Louisiana I/M SIP includes a description of its quality assurance program. The program includes both covert and overt audits which will be conducted on a regular basis. The SIP describes regular performance audits which include the inspection of records and equipment. Procedures for program oversight are based upon written instructions and will be updated as necessary.

The State submittal meets the quality assurance requirement of the Federal I/M regulations for approval.

Section 51.364 Enforcement Against Contractors, Stations and Inspectors

The SIP needs to include the penalty schedule and the legal authority for establishing and imposing penalties, civil fines, license suspension, and revocations. In the case of state constitutional impediments to immediate suspension authority, the state Attorney General needs to furnish an official opinion for the SIP explaining the constitutional impediment as well as relevant case law. Also, the SIP needs to describe the administrative and judicial procedures and responsibilities relevant to the enforcement process, including which agencies, courts, and jurisdictions are involved; who will prosecute and adjudicate cases; and other aspects of the enforcement of the program requirements, the resources to be allocated to this function, and the source of those funds. In States without immediate suspension authority, the SIP needs to demonstrate that sufficient resources, personnel, and systems are in place to meet the three day case management requirement for violations that directly affect emission reductions.

The revised Louisiana I/M SIP states that the State may assess penalties in its enforcement against stations and inspectors. The penalty schedule is discussed in the SIP narrative under Motorist Compliance Enforcement. The SIP describes the enforcement process, including administrative procedures and resources. The legal authority for Louisiana to assess penalties is located in LA R.S. 32:1312. The authority for DPS to deny application for license or revoke or suspend an outstanding certificate of any inspection station or the certificate of any person to inspect vehicles is found in LA R.S. 32:1305(C). Louisiana indicated that the State Constitution does not preclude immediate suspension of licenses to inspect. Even though Louisiana is a due process state, immediate suspension authority is currently available. The State submitted a statement from James H. Brent, Assistant Secretary of the LDEQ, on August 21, 2001, enclosing a letter from the LDEQ Deputy General Counsel, Ann Coco (August 20, 2001), outlining the Constitutional prohibition and outlining the process by which State can suspend or revoke a license within three business days of discovery of the violation, as required, and not violate the State Constitution. This statement is necessary for approval of this SIP revision.

The State submittal meets the requirements for approval of enforcement against inspection stations and inspectors of the Federal I/M regulations.

Section 51.365-6 Data Collection, Analysis and Reporting

The SIP needs to describe the types of data to be collected and reported.

The revised Louisiana I/M SIP provides for collection of test data to link specific test results to specific vehicles, I/M program registrants, test sites, and inspectors. The SIP lists the specific types of test data and quality control data which will be collected to evaluate program effectiveness. The data collected will be consistent with that required in the Federal I/M rule. The data will be used to generate reports in the areas of test data, quality assurance, quality control, and enforcement.

The State submittal meets the data collection, analysis and reporting requirements of the Federal I/M regulations for approval.

Section 51.367 Inspector Training and Licensing or Certification

The SIP needs to include a description of the training program, the written and hands-on tests, and the licensing or certification process.

The revised Louisiana I/M SIP provides for the implementation of training, licensing, and refresher programs for emission inspectors. The SIP describes this program including written and hands-on testing. Inspector licenses will expire two years after issuance. All inspectors must be licensed to inspect vehicles in the Louisiana I/M program.

The State submittal meets the requirements for inspector training and licensing or certification of the Federal I/M regulations.

Section 51.368 Public Information and Consumer Protection

The SIP needs to include a plan for informing the public on an ongoing basis throughout the life of the I/M program of the air quality problem, the requirements of federal and state law, the role of motor vehicles in the air quality problem, the need for and benefits of an inspection program, how to maintain a vehicle in a low-emission condition, how to find a qualified repair technician, and the requirements of the I/M program. Also, the SIP shall include a detailed consumer protection plan.

The revised Louisiana I/M SIP commits to the establishment of an ongoing public awareness plan addressing the significance of the air quality problem, the requirements of Federal and state law, the role of motor vehicles in the air quality problem, the needs for and benefits of an inspection program, the ways to maintain a vehicle in low-emission condition, how to find a qualified repair technician, and the requirements of the I/M program. The SIP states under the Improving Repair Effectiveness section that motorists will be offered general repair information including a list of repair facilities, information on the results of the repairs by repair facilities in the area, diagnostic information and warranty information. The SIP also describes consumer protection provisions which include a challenge mechanism, oversight of the program through the use of audits, and whistle blower protection.

The State submittal meets the public information and consumer protection requirements of the Federal I/M regulations for approval.

Section 51.369 Improving Repair Effectiveness

The SIP needs to include a description of the technical assistance program to be implemented, a description of the procedures and criteria to be used in meeting the performance monitoring requirements of the Federal I/M rule, and a description of the repair technician training resources available in the community.

The revised Louisiana I/M SIP includes a description of the technical assistance plan, repair industry performance monitoring plan, repair technician training assessment, and recognized repair technician requirements. The State will regularly inform repair facilities through the use of a newsletter regarding changes to the inspection program, training course schedules, common problems and potential solutions for particular engine families, diagnostic tips, repair, and other technical assistance issues. Repair facility performance monitoring statistics will be available to motorists whose vehicles fail the I/M test. The State will also ensure that adequate repair technician training resources are available to the repair community.

The state submittal meets the improving repair effectiveness requirements of the Federal I/M regulations for approval.

Section 51.370 Compliance With Recall Notices

The SIP needs to describe the procedures used to incorporate the lists of vehicles with recall notices provided by EPA into the inspection or registration database, the quality control methods used to insure that recall repairs are properly documented and tracked, and the method (inspection failure or registration denial) used to enforce the recall requirements.

The revised Louisiana I/M SIP commits to ensuring compliance with EPA I/M recall rules when they are finalized. Additional rulemaking by EPA is needed before the State will be able to implement this provision. Inspections failure will be used to enforce the recall requirements.

The State submittal meets the compliance with recall notices requirement of the Federal I/M regulations for approval.

Section 51.371 On-Road Testing

The SIP needs to include a detailed description of the on-road testing program, including the types of testing, test limits and criteria, the number of vehicles (the percentage of the fleet) to be tested, the number of employees to be dedicated to the on-road testing effort, the methods for collecting, analyzing, utilizing, and reporting the results of on-road testing and, the portion of the program budget to be dedicated to on-road testing. Also, the SIP needs to include the legal authority necessary to implement the on-road testing program, including the authority to enforce off-cycle inspection and repair requirements. In addition, emission reduction credit for on-road testing programs shall be granted for a program designed to obtain significant emission reductions over and above those already predicted to be achieved by other aspects of the I/M program. The SIP needs to include technical support for the claimed additional emission reductions.

The revised Louisiana I/M SIP includes a description of its on-road testing program, including test limits, criteria, data collection and reporting methods. The State is planning roadside antitampering checks and evaporative emission testing. The State has committed to cover 0.5 percent of the EPA required subject vehicles. The legal authority to conduct on-road testing is in LA R.S.32:1302-1303. The SIP describes adequate funding, resources and personnel to implement the on-road testing program. The State does not claim any additional reductions from on-road testing.

Louisiana's on-road testing program will check for hydrocarbon emissions as a complement to the required evaporative emissions testing program and will do an antitampering inspection.

The State submittal meets the requirements for on-road testing of the Federal I/M regulations for approval.

Section 51.372 State Implementation Plan Submissions

Under the Federal I/M rule, the SIP submittal should include legal authority for I/M program operation until such time as it is no longer necessary. The State is operating the I/M program under the continuous legal authority of the established antitampering and safety inspection program. Due to the nature of the I/M program, no other legal authority is required.

The revised Louisiana I/M SIP commits to revising the I/M SIP as new regulations are promulgated. The SIP contains the current interagency agreement between LDEQ and the DPS. This agreement is renewed annually with an effective date of July 1, and will be modified as needed to include future program requirements.

The State submittal meets the requirements for state implementation plan submissions of the Federal I/M regulations for approval.

Section 51.373 Implementation Deadlines

The original Federal I/M rule had a January 1995 start date requirement as well as subsequent start dates for special circumstances. In response to states' requests for greater flexibility in implementing I/M program SIPs processed under the NHSDA, EPA SIP approvals allowed programs to start as soon as possible, and specified start dates of November 15, 1997. Then in a narrower application, a January 1, 1999, start date was designated as a result of providing greater flexibility in Ozone Transport Regions (OTR) (FRN, Vol. 61, No. 144, July 25, 1996, p. 39034). OTRs would normally be exempt from I/M program requirements except for their location within the OTR. The January 1, 1999, start date allowed the affected areas to meet the performance standard by the Act's attainment and reasonable further progress deadlines, including the end of 1999 for serious ozone nonattainment areas. The EPA received no public comment regarding the 1999 start date in this notice. Finally, at this late date, starting the program in the Baton Rouge nonattainment area initially by January 1,2000, is “as soon as possible” for Louisiana.

The Louisiana I/M program started on January 1, 2000, with implementation of the gas cap pressure test. The State intends to implement OBD II testing in July 2002, which is as expeditious as possible following the January 2002 OBD start date requirement.

The State submittal meets the implementation deadlines requirement of the Federal I/M regulations for approval.

What Is EPA's Concluding Statement of Approval?

Our review of this material indicates that the SIP revision meets the minimum requirements of the Act and Federal I/M rules. Based upon the discussion contained in the analysis section of the proposal, the technical support document, and review of the DPS final I/M rules and updated MOU, we conclude that the State's submittal represents an acceptable approach to the I/M requirements and meets the requirements for approval. Therefore, EPA is proposing approval of the Louisiana I/M SIP revision.

EPA's Rulemaking Action

The EPA is proposing approval of the State's I/M SIP revision.

Administrative Requirements

Under Executive Order 12866 (58 FR 51735, October 4, 1993), this proposed action is not a “significant regulatory action” and therefore is not subject to review by the Office of Management and Budget. For this reason, this action is also not subject to Executive Order 13211, “Actions Concerning Regulations That Significantly Affect Energy Supply, Distribution, or Use” (66 FR 28355, May 22, 2001). This proposed action merely proposes to approve state law as meeting Federal requirements and imposes no additional requirements beyond those imposed by state law. Accordingly, the Administrator certifies that this proposed rule will not have a significant economic impact on a substantial number of small entities under the Regulatory Flexibility Act (5 U.S.C. 601 et seq.). Because this rule proposes to approve pre-existing requirements under state law and does not impose any additional enforceable duty beyond that required by state law, it does not contain any unfunded mandate or significantly or uniquely affect small governments, as described in the Unfunded Mandates Reform Act of 1995 (Public Law 104-4).

This proposed rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely proposes to approve a state rule implementing a Federal standard, and does not alter the relationship or the distribution of power and responsibilities established in the Clean Air Act. This proposed rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This proposed rule does not impose an information collection burden under the provisions of the Paperwork Reduction Act of 1995 (44 U.S.C. 3501 et seq.).

List of Subjects in 40 CFR Part 52

Environmental protection, Air pollution control, Carbon monoxide, Hydrocarbons, Intergovernmental relations, Nitrogen dioxide, Ozone, Reporting and recordkeeping requirements, Volatile organic compounds.

Dated: June 13, 2002.
Sam Becker,
Acting Regional Administrator, Region 6.

[FR Doc. 02-16461 Filed 7-01-02; 8:45 am]

BILLING CODE 6560-50-P